DEPARTMENT OF AGRICULTURE

Food and Nutrition Service

Agency Information Collection Activities: Proposed Collection; Comment Request—Senior Farmers' Market Nutrition Program (SFMNP)

AGENCY: Food and Nutrition Service (FNS), U.S. Department of Agriculture (USDA).

ACTION: Notice.

SUMMARY: In accordance with the Paperwork Reduction Act of 1995, this notice invites the general public and other public agencies to comment on this proposed information collection. This collection is a revision of a currently approved collection of information relating to the reporting and recordkeeping burden associated with the Senior Farmers' Market Nutrition Program (SFMNP).

DATES: Written comments must be received on or before October 1, 2019.

ADDRESSES: Comments may be sent to: Kurtria Watson, Food and Nutrition Service, U.S. Department of Agriculture, 3101 Park Center Drive, Room 524, Alexandria, VA 22302. Comments may also be submitted via email to kurtria.watson@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kurtria Watson at (703) 605-4387.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Senior Farmers' Market Nutrition Program (SFMNP).

Form Number: Annual Financial and Program Data Report, FNS-683A.

OMB Number: 0584-0541.

Expiration Date: October 31, 2019.

Type of Request: Revision of a currently approved collection.

Abstract: The U.S. Department of Agriculture (USDA), Food and Nutrition Service (FNS), created the Senior Farmers' Market Nutrition Program (SFMNP) in 2000 as a pilot program awarding grants to State agencies (including geographic States, U.S. Territories, and federally recognized Indian Tribal Organizations (ITOs)) on a competitive basis. The Farm Security and Rural Investment Act of 2002 (2002 Farm Bill), Public Law 107-171, authorized the SFMNP, beginning Fiscal Year (FY) 2003, and gave USDA the authority to develop regulations for the SFMNP. These regulations are published at 7 Code of Federal Regulations (CFR) part 249. The Agriculture Improvement Act of 2018 (2018 Farm Bill), Public Law 115-334, reauthorized the SFMNP through fiscal year 2023.

The purpose of the SFMNP is to provide resources in the form of fresh, nutritious, unprepared, locally grown fruits, vegetables, herbs, and honey from farmers' markets, roadside stands, and community supported agriculture (CSA) programs to low income seniors; to increase the domestic consumption of agricultural commodities by expanding or aiding in the expansion of domestic farmers' markets, roadside stands, and CSA programs; and to develop or aid in the development of new and additional farmers' markets, roadside stands, and CSA programs.

The 2018 Farm Bill and SFMNP regulations at 7 CFR part 249 require that certain program-related information be collected and that full and complete records concerning SFMNP operations are maintained. The information reporting and recordkeeping requirements are necessary to ensure appropriate and efficient management of the SFMNP program. Information reporting and recordkeeping includes, but is not limited to, the authorization and monitoring of State agencies; the certification of SFMNP recipients; nutrition education that is provided to recipients; farmer, farmers' market, roadside stand, and CSA program authorization, monitoring, and management; and reporting on the financial management and operational aspects of program administration. This information collection is used by USDA to manage, plan, evaluate, and provide oversight to SFMNP program operations. Likewise, this information is used for reporting to Congress, as needed.

This information collection is requesting a revision to the previously approved burden hours due to program adjustments that primarily reflect expected changes in the number of SFMNP State agencies, individual/households (program recipients), and the number of farmers, farmers' markets, roadside stands, and CSA programs, from year to year. Additionally, the burden hours associated with State agency financial and program recipient reporting on the Annual Financial and Program Data Report (FNS-683A), are now included in the information collection for the Food Programs Reporting System (FPRS), OMB #0584-0594, expiration date of 9/30/2019. As such, with this revision we are removing the burden associated with the FNS-683A from this information collection, a decrease of 2,080 hours. Overall, program adjustments have increased the net annual burden from 427,280 to 449,090 burden hours (difference of 21,810 burden hours). Likewise, there is an increase in the total annual responses from 2,408,659 to 2,549,454 (difference of 140,795 annual responses).

Affected Public Respondents Include: State agencies (including geographic States, U.S. Territories, and Indian Tribal Organizations (ITOs)); local agencies; individuals/households (program recipients); and authorized farmers, farmers' markets, roadside stands, and CSA programs participating in the SFMNP.

Estimated Number of Respondents: The total estimated number of respondents is 867,028. This includes: State agencies, local agencies, individuals/households (program recipients), and authorized farmers, farmers' markets, roadside stands, and CSA programs.

Estimated Number of Responses per Respondent: The total estimated number of responses per respondent for this collection is 3, rounded up.

Estimated Total Annual Responses: 2,549,454. The estimated total for reporting is 1,709,189 while the estimated total for recordkeeping is 840,265.

Estimated Time per Response: The estimated time per response averages .18 hours, rounded up for all participants. For the reporting and recordkeeping burden, the estimated time of response varies from 15 minutes to 40 hours depending on the respondent group.

Estimated Total Annual Burden on Respondents: 449,090 hours. The estimated total for reporting burden is 236,599 while the estimated total for recordkeeping is 212,491 burden hours.

See the respondent burden table (Table 1) below for estimated total annual burden for each type of respondent.

Dated: July 26, 2019.
Brandon Lipps,
Administrator, Food and Nutrition Service.

Table 1—Respondent Burden
Regulatory section | Information collected | Form(s) | Estimated number of respondents | Annual responses per respondent | Total annual responses | Hours per response | Total annual burden hours | Previous submission: Total annual burden hours
REPORTING BURDEN ESTIMATES
Affected Public: State & Local Agencies (Including U.S. Territories and Indian Tribal Organizations)
249.3(d) | Local agency applications |  | 1,060 | 0.5 | 530 | 2 | 1,060 | 1,040
249.4 | State Plan of Operations |  | 53 | 1 | 53 | 40 | 2,120 | 2,080
249.6(a)(3) | Certification data for seniors |  | 53 | 15,849 | 840,000 | 0.25 | 210,000 | 200,000
249.10(b) | Review of farmer, farmers' market, roadside stand and CSA program applications |  | 12,924 | 1 | 12,924 | 0.25 | 3,231 | 3,622
249.10(e) | Monitoring and review of at least 10 percent of authorized farmers, farmers' markets, roadside stands, and CSA programs |  | 53 | 49 | 2,585 | 1.5 | 3,877 | 543
249.10(f) | Coupon/CSA management system |  | 53 | 1 | 53 | 5 | 265 | 260
249.10(h) | Coupon reconciliation |  | 53 | 1 | 53 | 3 | 159 | 156
249.11 | Financial management system |  | 53 | 1 | 53 | 10 | 530 | 520
249.12 | Prior approval for cost items per 2 CFR part 200, subpart E, and 2 CFR parts 400 and 415 |  | 5 | 1 | 5 | 40 | 200 | 800
249.17(b)(2) | State agency corrective action plans |  | 8 | 1 | 8 | 10 | 80 | 70
249.18(b) | Audit responses |  | 1 | 1 | 1 | 15 | 15 | 15
249.23(b) | Financial/recipient reports | FNS-683A |  |  |  |  |  | 2,080
Subtotal Reporting: State and Local Agencies |  | 14,051 | 60.9397765 | 856,265 | 0.2587251 | 221,537 | 211,186
Affected Public: Individuals/Households (Applicants for Program Benefits)
249.6 | Certification data for seniors |  | 840,000 | 1.00 | 840,000 | 0.0167 | 14,028 | 13,360
Subtotal Reporting: Individuals/Households |  | 840,000 |  | 840,000 |  | 14,028 | 13,360
Affected Public: Authorized Farmers, Farmers' Markets, Roadside Stands, CSA Programs
249.10(b) | Authorized farmer, farmers' market, roadside stand and CSA program applications |  | 12,924 | 1.00 | 12,924 | 0.08 | 1,034 | 290
Subtotal Reporting: Authorized farmers, farmers' markets, roadside stands and CSA programs |  | 12,924 |  | 12,924 |  | 1,034 | 290
Grand Subtotal: Reporting |  | 866,975 |  | 1,709,189 |  | 236,599 | 224,836
RECORDKEEPING BURDEN ESTIMATES
Affected Public: State & Local Agencies (Including U.S. Territories and Indian Tribal Organizations)
249.9 | Nutrition education |  | 53 | 15,849 | 840,000 | 0.25 | 210,000 | 200,000
249.10(b) | Authorized farmers, farmers' markets, roadside stands and CSA program agreements |  | 53 | 1 | 53 | 2 | 106 | 104
249.10(e) | Monitoring and review of at least 10 percent of authorized farmers, farmers' markets, roadside stands, and CSA programs |  | 53 | 1 | 53 | 2 | 106 | 104
249.11 | Record of financial expenditures |  | 53 | 1 | 53 | 2 | 106 | 104
249.16(a) | Fair hearings |  | 53 | 1 | 53 | 1 | 53 | 52
249.23(a) | Record of Program operations |  | 53 | 1 | 53 | 40 | 2,120 | 2,080
Grand Subtotal: Recordkeeping |  | 53 |  | 840,265 |  | 212,491 | 202,444
Grand Subtotal Reporting and Recordkeeping |  | 867,028 |  | 2,549,454 |  | 449,090 | 427,280

[FR Doc. 2019-16541 Filed 8-1-19; 8:45 am]

BILLING CODE 3410-30-P